ENVIRONMENTAL PROTECTION AGENCY

40 CFR Part 80

[EPA-HQ-OAR-2005-0161; FRL-8927-3]

RIN 2060-A081

Regulation of Fuels and Fuel Additives: Changes to Renewable Fuel Standard Program; Extension of Comment Period

AGENCY: Environmental Protection Agency (EPA).

ACTION: Proposed rule; extension of comment period.

SUMMARY: The U.S. Environmental Protection Agency (“EPA”) is announcing an extension of the public comment period for the proposed rule “Regulation of Fuels and Fuel Additives: Changes to Renewable Fuel Standard Program” (the proposed rule is hereinafter referred to as “RFS2”). EPA published a notice of proposed rulemaking, which included a request for comment, in the Federal Register on May 26, 2009. The public comment period was to end on July 27, 2009—60 days after publication in the Federal Register. The purpose of this document is to extend the comment period an additional 60 days until September 25, 2009. This extension of the comment period is provided to allow the public additional time to provide comment on the proposed rule.

DATES: The comment period for the proposed rule published May 26, 2009 (74 FR 24904) is extended. Written comments must be received on or before September 25, 2009.

ADDRESSES: Submit your comments, identified by Docket ID No. EPA-HQ-OAR-2005-0161, by one of the following methods:

• http://www.regulations.gov: Follow the on-line instructions for submitting comments.

• E-mail: a-and-r-docket@epa.gov.

• Mail: Air and Radiation Docket and Information Center, Environmental Protection Agency, Mailcode: 2822T, 1200 Pennsylvania Ave., NW., Washington, DC 20460. In addition, please mail a copy of your comments on the information collection provisions to the Office of Information and Regulatory Affairs, Office of Management and Budget (OMB), Attn: Desk Officer for EPA, 725 17th St., NW., Washington, DC 20503.

• Hand Delivery: EPA Docket Center, EPA West Building, Room 3334, 1301 Constitution Ave., NW., Washington, DC 20004. Such deliveries are only accepted during the Docket's normal hours of operation, and special arrangements should be made for deliveries of boxed information.

Instructions: Direct your comments to Docket ID No. EPA-HQ-OAR-2005-0161. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, please refer to the notice of proposed rulemaking (Section XI, Public Participation, of the SUPPLEMENTARY INFORMATION section of the proposed rulemaking document).

How Can I Access the Docket?

All documents in the docket are listed in the http://www.regulations.gov index. Although listed in the index, some information is not publicly available, e.g., CBI or other information whose disclosure is restricted by statute. Certain other material, such as copyrighted material, will be publicly available only in hard copy. Publicly available docket materials are available either electronically in www.regulations.gov or in hard copy at the Air and Radiation Docket and Information Center, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

How Can I Get Copies of This Document, the Proposed Rule, and Other Related Information?

The EPA has established a docket for this action under Docket ID No. EPA-HQ-OAR-2005-0161. The EPA has also developed a Web site for the proposed RFS2 rule, including the notice of proposed rulemaking, at: http://www.epa.gov/otaq/renewablefuels/index.htm. Please refer to the notice of proposed rulemaking for detailed information on accessing information related to the proposal.

FOR FURTHER INFORMATION CONTACT: Julia MacAllister, Office of Transportation and Air Quality, Assessment and Standards Division, Environmental Protection Agency, 2000 Traverwood Drive, Ann Arbor, MI 48105; telephone number: (734) 214-4131; Fax number: (734) 214-4816; E-mail address: macallister.julia@epa.gov, or Assessment and Standards Division Hotline; telephone number (734) 214-4636; E-mail address: asdinfo@epa.gov.

SUPPLEMENTARY INFORMATION: Background: In a separate notice of proposed rulemaking, EPA proposed a regulation to implement changes to the Renewable Fuel Standard program as mandated by the Clean Air Act (as amended by Sections 201, 202, and 210 of the Energy Independence and Security Act of 2007). The revised statutory requirements specify the volumes of cellulosic biofuel, biomass-based diesel, advanced biofuel, and total renewable fuel that must be used in transportation fuel each year, with the volumes increasing over time. The rule proposed regulations designed to ensure that refiners, blenders, and importers of gasoline and diesel would use enough renewable fuel each year so that the four volume requirements of the Energy Independence and Security Act would be met with renewable fuels that also meet the required lifecycle greenhouse gas emissions performance standards. The RFS2 proposed rule describes the standards that would apply to these parties, the lifecycle greenhouse gas modeling, and the renewable fuels that would qualify for compliance. The proposed regulations also make a number of changes to the current Renewable Fuel Standard program while retaining many elements of the compliance and trading system already in place.

Extension of Comment Period: EPA received requests for an extension of the RFS2 public comment period from various parties ranging from 60 to 120 days. EPA also received a request to not extend the comment period, and to continue with the schedule as proposed. After considering all of these comments, EPA has determined that an extension of the comment period would provide the public adequate time to provide meaningful comment on the proposed rule. However, this need must be balanced against our desire to finalize and implement the new standards in a timely manner. EPA believes that an additional 60 days is an appropriate amount of time to balance these needs. Accordingly, the public comment period for the RFS2 proposed rulemaking is extended until September 25, 2009. EPA does not anticipate any further extension of the comment period at this time.

Dated: June 30, 2009.
Gina McCarthy,
Assistant Administrator, Office of Air and Radiation.

[FR Doc. E9-15947 Filed 7-6-09; 8:45 am]

BILLING CODE 6560-50-P